DEPARTMENT OF STATE

[Public Notice 7939]

30-Day Notice of Proposed Information Collection, DS-5520, Supplemental Questionnaire to Determine Identity for a U.S. Passport, 1405-XXXX

ACTION: Notice of request for public comment and submission to OMB of proposed collection of information.

SUMMARY: The Department of State has submitted the following information collection request to the Office of Management and Budget (OMB) for approval in accordance with the Paperwork Reduction Act of 1995.

• Title of Information Collection: Supplemental Questionnaire to Determine Identity for a U.S. Passport.

• OMB Control Number: None.

• Type of Request: Existing Collection in Use Without an OMB Control Number.

• Originating Office: Bureau of Consular Affairs, Passport Services, Office of Project Management and Operational Support, Program Coordination (CA/PPT/PMO/PC).

• Form Number: DS-5520.

• Respondents: Individuals applying for a U.S. passport.

• Estimated Number of Respondents: 69,011.

• Estimated Number of Responses: 69,011.

• Average Hours per Response: 45 Minutes.

• Total Estimated Burden: 51,758 hours.

• Frequency: On occasion.

• Obligation to Respond: Required to Obtain a Benefit.

DATES: Submit comments to the Office of Management and Budget (OMB) for up to 30 days from July 2, 2012.

ADDRESSES: U.S. Department of State, Bureau of Consular Affairs, Passport Services, Office of Program Management and Operational Support, 2201 C Street NW., Washington, DC 20037.

Direct comments to the Department of State Desk Officer in the Office of Information and Regulatory Affairs at the Office of Management and Budget (OMB). You may submit comments by the following methods:

• Email: oira_submission@omb.eop.gov. You must include the DS form number, information collection title, and OMB control number in the subject line of your message.

• Fax: 202-395-5806. Attention: Desk Officer for Department of State.

FOR FURTHER INFORMATION CONTACT: You may obtain copies of the proposed information collection and supporting documents from PPT Forms Officer, U.S. Department of State, 2100 Pennsylvania Ave. NW., Room 3031, Washington, DC 20037, who may be reached on 202-663-2457 or at PPTFormsOfficer@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The primary purpose for soliciting this information is to validate an identity claim for a U.S. Passport Book or Passport Card in the narrow category of cases in which the evidence presented by an applicant is insufficient to establish identity. The information may also be used in adjudicating applications for other travel documents and services, and in connection with law enforcement, fraud prevention, border security, counterterrorism, litigation activities, and administrative purposes.

Methodology

The Supplemental Questionnaire to Determine Identity for a U.S. Passport is intended to verify the respondent's identity for purposes of determining eligibility for a U.S. passport. This form is used to supplement an existing passport application and solicits information relating to the respondent's employment and residences that is needed to corroborate an applicant's identity claim prior to passport issuance.

Additional Information

The DS-5520 is questionnaire is designed to help determine the identity of passport applicants. The DS-5520 is not designed to replace the DS-11, Application for a U.S. Passport, but rather to supplement the application when the applicant initially submits evidence that is insufficient to meet his/her burden of proving identity. The Department estimates that such supplemental information will only be requested for a small number of applicants, estimated to be less than 0.5% of applications received annually. For information on what documentation is required when submitting a DS-11, please refer to page two of the instructions.

The DS-5520 is largely based on the original Biographical Questionnaire for a U.S. Passport, posted on the Federal Register for public comment on February 24, 2011 (page 10421) and closed April 25, 2011.

Comments we received from the original Federal Register posting were considered, and several suggestions were incorporated into the current version of the forms. The Department split the form into two shorter forms: the DS-5520 for identity questions and the DS-5513 for entitlement. Both revised forms assure applicants that failure to answer every question will not necessarily preclude passport issuance, as the responses to the questions in the forms are considered in their entirety.

In response to comments regarding burden and privacy concerns, the proposed forms amend many of the questions to more accurately obtain the information the Department is seeking. For example, the proposed DS-5520 limits the number of past employment and residences requested. The Department also removed the question regarding past supervisors and employers' contact information based on public comment.

After dramatically revising the form, the Department posted a second Federal Register notice for public comment. For this notice, the Department received comments remarked that providing information about one's family members (living and deceased) is irrelevant for determining their identity. Others expressed concern regarding how it will be difficult for some applicants (such as applicants who lived overseas or people who are adopted or elderly) to provide some of the requested information.

The details surrounding one's family are usually one of the easiest pieces of information an applicant can provide that can also easily be verified via records by the Department. That being said, the Department is also well aware of how complicated family dynamics can be regardless of whether or not the applicant is adopted (a fact which would be reflected in the citizenship evidence an applicant submits with the initial application) which is why the form's instructions stress that if you are unsure of the information, please provide a response to the best of your knowledge as Passport Services will consider all the information derived from this form in its entirety. This form instruction also applies to the comments regarding children who went to school overseas as well as elderly applicants who may not remember where they lived five addresses ago. The Department understands that when it comes to an applicant's life history, there can be a wide variety of responses provided and the Department therefore accepts a wide variety of answers.

Dated: May 9, 2012.
Barry J. Conway,
Acting Deputy Assistant Secretary for Passport Services, Bureau of Consular Affairs, Department of State.

[FR Doc. 2012-16190 Filed 6-29-12; 8:45 am]

BILLING CODE 4710-06-P